FEDERAL COMMUNICATIONS COMMISSION

Sunshine Act Meeting

December 6, 2000.

Deletion of Agenda Items From the December 7th Open Meeting

The following items have been deleted from the list of agenda items scheduled for consideration at the December 7, 2000, Open Meeting and previously listed in the Commission Notice of November 30, 2000.

Item No. | Bureau | Subject
1 | Mass Media | Title: Applications of Anderson Broadcasting Company (Assignor) and Cumulus Licensing Corp. (Assignee); For Consent to the Assignment of the Licenses of KBMR(AM), Bismark, ND, KXMR(AM), Bismarck, ND, KSSS(FM), Bismarck, ND, KAVG(FM), Beulah, ND, and KBKU(FM), Hettinger, ND. (File Nos. BAL/BALH/BAP-19991004AAY-ABC
|  | Summary: The Commission will consider a Hearing Designation Order concerning applications for the assignment of licenses from Anderson Broadcasting Company to Cumulus Licensing Corp.
2 | Mass Media | Title: Definition of Radio Markets
|  | Summary: The Commission will consider a Notice of Proposed Rule Making concerning its methodology for defining radio markets, and other related policies for applying the radio multiple ownership rules.

Magalie Roman Salas,
Secretary.

[FR Doc. 00-31761 Filed 12-8-00; 4:08 pm]

BILLING CODE 6712-01-M